COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action deletes service(s) from the Procurement List that were furnished by nonprofit agencies employing persons who are blind or have other severe disabilities.

DATES: Date deleted from the Procurement List: January 8, 2023.

ADDRESSES: Committee for Purchase From People Who Are Blind or Severely Disabled, 355 E Street SW, Suite 325, Washington, DC 20024.

FOR FURTHER INFORMATION CONTACT: Michael R. Jurkowski, Telephone: (703) 785-6404 or email CMTEFedReg@AbilityOne.gov.

SUPPLEMENTARY INFORMATION:

Deletions

On 8/19/2022 and 9/9/2022, the Committee for Purchase From People Who Are Blind or Severely Disabled published notice of proposed deletions from the Procurement List. This notice is published pursuant to 41 U.S.C. 8503 (a)(2) and 41 CFR 51-2.3.

After consideration of the relevant matter presented, the Committee has determined that the product(s) and service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following service(s) are deleted from the Procurement List:

Service(s)

Service Type: IT Support Services

Mandatory for: Defense Health Agency, Solution Delivery Division, 7700 Arlington Blvd., Falls Church, VA

Designated Source of Supply: Global Connections to Employment, Inc., Pensacola, FL

Contracting Activity: DEFENSE HEALTH AGENCY (DHA), DEFENSE HEALTH AGENCY

Service Type: Custodial service

Mandatory for: FAA, Multiple Locations, 3491 S. Roosevelt Blvd., Key West, FL

Designated Source of Supply: Mavagi Enterprises, Inc., San Antonio, TX

Contracting Activity: FEDERAL AVIATION ADMINISTRATION, 697DCK REGIONAL ACQUISITIONS SVCS

Service Type: Grounds Maintenance

Mandatory for: US Army Corps of Engineers, Bonneville Lock and Dam, Interstate 84, Exit 40, Cascade Locks, OR

Designated Source of Supply: Relay Resources, Portland, OR

Contracting Activity: DEPT OF THE ARMY, W071 ENDIST PORTLAND

Service Type: Janitorial/Custodial

Mandatory for: Veterans Outreach Center: 2001 Lincoln Way, Oak Park Mall

Contracting Activity: VETERANS AFFAIRS, DEPARTMENT OF, NAC

Service Type: Catering Service

Mandatory for: Seattle Military Entrance Processing Station (MEPS), 4735 E Marginal Way South, Seattle, WA

Designated Source of Supply: Northwest Center, Seattle, WA

Contracting Activity: DEPT OF THE ARMY, W6QM MICC-FT KNOX

Michael R. Jurkowski,
Acting Director, Business Operations.

[FR Doc. 2022-26810 Filed 12-8-22; 8:45 am]

BILLING CODE 6353-01-P